Title 3—

The President

Proclamation 8873 of October 1, 2012

National Arts and Humanities Month, 2012

By the President of the United States of America

A Proclamation

After the bombing of Fort McHenry during the War of 1812, a young lawyer named Francis Scott Key reached for his pen and captured the resilience of the American people. His poem became our National Anthem, and almost two centuries later, it continues to speak to the American spirit just as it did on that September day so long ago. Throughout our history, the arts and humanities have given us comfort and confidence, drawn us together, and called on us to strive for a more perfect Union. This month, we celebrate our Nation's rich artistic heritage.

Artistic expression and memorable ideas can resonate with us, challenge us, and teach us important lessons about ourselves and each other. At their best, great works of literature, theater, dance, fine art, and music reflect something common in all of us. They open dialogues between cultures and raise poignant questions about our world. They are also vital components of our children's education and our national growth—not only teaching our youth to observe closely, interpret creatively, and think critically, but also bringing new cultural experiences to our communities and helping drive economic progress. That is why my Administration is committed to strengthening arts and humanities programs in schools and communities across our Nation.

When children read their first book, pick up their first instrument, or perform in their first play, they demonstrate the power of the arts to ignite wonder and imagination. This month, let us pledge to invest in America's next generation by ensuring our children have the opportunity to participate in and enjoy the arts and humanities. If we give them the tools to create and innovate, they will do their part to disrupt our views, challenge our perceptions, and stir us to be our best selves.

NOW, THEREFORE, I, BARACK OBAMA, President of the United States of America, by virtue of the authority vested in me by the Constitution and the laws of the United States, do hereby proclaim October 2012 as National Arts and Humanities Month. I call upon the people of the United States to join together in observing this month with appropriate ceremonies, activities, and programs to celebrate the arts and the humanities in America.

IN WITNESS WHEREOF, I have hereunto set my hand this first day of October, in the year of our Lord two thousand twelve, and of the Independence of the United States of America the two hundred and thirty-seventh.

[FR Doc. 2012-24652

Filed 10-3-12; 8:45 am]

Billing code 3295-F3